DEPARTMENT OF EDUCATION

[CFDA No.: 84.033]

Student Financial Assistance Federal Work-Study Programs

AGENCY: Department of Education.

ACTION: Notice of the closing date for filing the “Institutional Application for the Work-Colleges Program.”

SUMMARY: The closing date for the institutional application for the Work-Colleges Program (2000-2001 award year) is June 29, 2000. To participate in the Work-Colleges program, an institution must be a public or private nonprofit institution that requires all resident students to participate in a comprehensive work-learning program. (See SUPPLEMENTARY INFORMATION for a complete description of the requirements.) The Work-Colleges Program along with the Federal Work-Study Program and the Job Location and Development Program are known collectively as the Federal Work-Study programs. The Work-Colleges Program is authorized by part C of title IV of the Higher Education Act of 1965, as amended (HEA).

DATES: Closing Date and Methods for Submitting the Institutional Application and Agreement. To participate in the Work-Colleges Program and to apply for funds for that program for the 2000-2001 award year, an eligible institution must mail or hand deliver its “Institutional Application and Agreement for Participation in the Work-Colleges Program” to the Department on or before June 29, 2000. If you choose you may fax or e-mail your “Institutional Application and Agreement for Participation in the Work-Colleges Program” by 4 p.m. eastern time on June 29, 2000. You must fax the form to Richard Coppage at (202) 260-0522 or (202) 205-1919 or E-mail to the following address: Richard_Coppage@ed.gov.

ADDRESSES: Applications and Agreements Delivered by Mail. An institution must address an institutional application and agreement delivered by mail to Mr. Richard Coppage, Work-Colleges Program, Student Financial Assistance, U.S. Department of Education, 400 Maryland Avenue, Portals Building, Suite 600D, Washington, D.C. 20202. An applicant must show proof of mailing consisting of one of the following: (1) A legibly dated U.S. Postal Service postmark; (2) a legible mail receipt with the date of mailing stamped by the U.S. Postal Service: (3) a dated shipping label, invoice, or receipt from a commercial carrier; or (4) any other proof of mailing acceptable to the Secretary of Education.

If an institutional application and agreement is sent through the U.S. Postal Service, the Secretary does not accept either of the following as proof of mailing: (1) A private metered postmark or (2) a mail receipt that is not dated by the U.S. Postal Service.

An institution should note that the U.S. Postal Service does not uniformly provide a dated postmark. Before relying on this method, an institution should check with its local post office.

The Secretary encourages an institution to use certified or at least first-class mail. Institutions that submit an application and agreement after the closing date of June 29, 2000, are not considered for participation or funding under the Work-Colleges Program for award year 2000-2001.

Applications and Agreements Delivered by Hand. If an institution delivers its institutional application and agreement by hand, it must deliver the institutional application and agreement to Mr. Richard Coppage, Work-Colleges Program, Student Financial Assistance, Portals Building, 1250 Maryland Avenue, SW., Suite 600D Washington, D.C. 20202. The Secretary accepts hand-delivered institutional applications and agreements between 8 a.m. and 4 p.m. (Eastern time) daily, except Saturdays, Sundays, and Federal holidays. The Secretary will not accept an institutional application and agreement for the 2000-2001 award year that is delivered by hand after 4:00 p.m. on June 29, 2000.

SUPPLEMENTARY INFORMATION: Under the Work-Colleges Program, we allocate funds when available for that program to eligible institutions. We will not allocate funds under the Work-Colleges Program for award year 2000-2001 to any eligible institution unless the institution files its “Institutional Application and Agreement for Participation in the Work-Colleges Program” by the closing date. If an institution submits its application and agreement after the June 29, 2000 closing date, we will use this application and agreement to determine the institution's eligibility to participate in the Work-College Program beginning with the 2001-2002 award year.

To apply for participation and funding under the Work-Colleges Program, an institution must satisfy the definition of “work-college” in section 448(e) of the HEA. The term “work-college” under the HEA means an eligible institution that (1) is a public or private nonprofit institution with a commitment to community service; (2) has operated a comprehensive work-learning program for at least two years; (3) requires the participation of all resident students in a comprehensive work-learning program and the provision of services as an integral part of the institution's educational program and as part of the institution's educational philosophy; and (4) provides students participating in the comprehensive work-learning program with the opportunity to contribute to their education and to the welfare of the community as a whole.

Applicable Regulations

The following regulations apply to the Work-Colleges Program:

(1) Student Assistance General Provisions, 34 CFR part 668.

(2) General Provisions for the Federal Perkins Loan Program, Federal Work-Study Program, and Federal Supplemental Educational Opportunity Grant Program, 34 CFR part 673.

(3) Federal Work-Study Programs, 34 CFR part 675.

(4) Institutional Eligibility Under the Higher Education Act of 1965, as amended, 34 CFR part 600.

(5) New Restrictions on Lobbying, 34 CFR part 82.

(6) Governmentwide Debarment and Suspension (Nonprocurement) and Governmentwide Requirements for Drug-Free Workplace (Grants), 34 CFR part 85.

(7) Drug and Alcohol Abuse Prevention, 34 CFR part 86.

FOR FURTHER INFORMATION CONTACT: Mr. Richard Coppage Work-Colleges Program, Student Financial Assistance, U.S. Department of Education, 400 Maryland Avenue, SW., Portals Building, Suite 600D, Washington, D.C. 20202. Telephone (202) 708-4694. Individuals who use a telecommunications device for the deaf (TDD) may call the Federal Information Relay Service (FIRS) at 1-800-877-8339. Individuals with disabilities may obtain this document in an alternate format (e.g., Braille, large print, audiotape or computer diskette) by contacting the Alternate Format Center at (202) 260-9895 between 8:30 a.m. and 4:30 p.m., Eastern time, Monday through Friday.

Electronic Access to This Document

You may view this document, as well as all other Department of Education documents published in the Federal Register, in text or Adobe Portable Document Format (PDF) on the Internet at either of the following sites:

http://ocfo.ed.gov/fedreg.htm

http://www.ed.gov/news.html

To use the PDF version you must have the Adobe Acrobat Reader, which is available free at either of the previous sites. If you have questions about using the PDF version, call the U.S. Government Printing Office (GPO), toll free, at 1-888-293-6498; or in the Washington, D.C., area at (202) 512-1530.

Note: The official version of this document is the document published in the Federal Register. Free Internet access to the official edition of the Federal Register and the Code of Federal Regulations is available on GPO Access at: http://www.access.gpo.gov/nara/index.html

Program Authority: 42 U.S.C. 2756b.

Dated: May 30, 2000.
Greg Woods,
Chief Operating Officer, Student Financial Assistance.

[FR Doc. 00-13947 Filed 6-2-00; 8:45 am]

BILLING CODE 4000-01-U